DEPARTMENT OF THE INTERIOR

Fish and Wildlife Service

Proposed Safe Harbor Agreement for the Introduction of Nene to Piiholo Ranch, Maui, HI

AGENCY: Fish and Wildlife Service, Interior.

ACTION: Notice of availability and receipt of application.

SUMMARY: Piiholo Ranch (Applicant) has applied to the U.S. Fish and Wildlife Service (Service) for an enhancement of survival permit pursuant to section 10(a)(1)(A) of the Endangered Species Act of 1973, as amended (16 U.S.C. 1533 et seq.) (ESA). As part of that application package, a Safe Harbor Agreement (Agreement) is proposed by the Applicant and the State of Hawaii Department of Land and Natural Resources (DLNR). The proposed Agreement provides for the introduction of the endangered nene, or Hawaiian goose (Branta sandvicensis), and for management, habitat enhancement, and monitoring for nene within approximately 600 acres of short grass ranch lands on private property on the island of Maui, Hawaii. The duration of the proposed Agreement is 10 years, enabling introduction and establishment of a population of nene. The proposed permit duration is 50 years. At any time after the expiration of the Agreement and prior to expiration of the permit, the property owner may return the property to its original baseline condition described in the Agreement. The Agreement and permit application are available for public comment.

The proposed Agreement and ESA enhancement of survival permit may be eligible for categorical exclusion under the National Environmental Policy Act of 1969 (42 U.S.C. 4321 et seq.) (NEPA). This is evaluated in an Environmental Action Statement, which is also available for public review.

DATES: Written comments must be received by 5 p.m. on June 7, 2004.

ADDRESSES: Comments should be addressed to Ms. Gina M. Shultz, Acting Field Supervisor, Pacific Islands Fish and Wildlife Office, 300 Ala Moana Blvd., PO Box 50088, Honolulu, Hawaii 96850, facsimile number (808) 792-9580 (see SUPPLEMENTARY INFORMATION, Public Review and Comments).

FOR FURTHER INFORMATION CONTACT: Ms. Arlene Pangelinan, Supervisory Fish and Wildlife Biologist, at the above address or by calling (808) 792-9400.

SUPPLEMENTARY INFORMATION:

Public Review and Comments

Individuals wishing copies of the permit application, the Environmental Action Statement, or copies of the full text of the proposed Agreement, including a map of the proposed permit area, references, and legal descriptions of the proposed permit area, should contact the office and personnel listed in the ADDRESSES section. Documents also will be available for public inspection, by appointment, during normal business hours at this office (see ADDRESSES).

The Service provides this notice pursuant to section 10(c) of the Act and NEPA regulations (40 CFR 1506.6). All comments received on the permit application and proposed Agreement, including names and addresses, will become part of the administrative record and may be released to the public. If you wish us to withhold your name and/or address, you must state this prominently at the beginning of your comment. All submissions from organizations or businesses, and from individuals identifying themselves as representatives or officials of organizations or businesses, are available for public inspection in their entirety.

Background

The biological objective of the proposed Agreement is to introduce a population of nene to a mid-elevation site on Maui, Hawaii, and thereby establish a self-sustaining population. An additional objective, which benefits both the nene and the Applicant, is to assure regulatory stability to the Applicant by relieving him/her of any additional section 9 liability under the ESA beyond that which exists at the time the Agreement is signed (“regulatory baseline”). Safe Harbor Agreements encourage landowners to conduct voluntary conservation activities and assure them that they will not be subjected to increased endangered species restrictions should their beneficial stewardship efforts result in increased endangered species populations. Application requirements and issuance criteria for enhancement of survival permits through Safe Harbor Agreements are found in 50 CFR 17.22(c). As long as the landowners maintain their baseline responsibilities, they may make any other lawful use of the property during the permit term, even if such use results in the take of individual nene or harm to nene habitat.

The proposed Agreement was developed by the Applicant and the DLNR Division of Forestry and Wildlife (DOFAW) with technical assistance from the Service. The Agreement proposes the introduction of nene to Piiholo Ranch by the DOFAW, in addition to allowing the DOFAW and the Service to monitor the nene and improve nene habitat. Under the proposed Agreement, the Applicant will: (1) Construct and maintain a release pen for the nene with the assistance of the DOFAW; (2) fence and maintain an area of several acres around the release pen to allow for planting of native food plants for nene; (3) conduct predator control in and around the nene release pen; (4) allow the DOFAW and the Service access to private property for monitoring and maintaining the nene at Piiholo Ranch; and (5) allow and perform habitat maintenance activities to ensure nene survival at Piiholo Ranch. The DOFAW will: (1) Introduce nene to Piiholo Ranch following an agreed upon protocol over the course of several introductions; (2) assist with construction of the release pen and with predator control; and (3) assist with managing and monitoring nene, including conducting an annual survey of nene on Piiholo Ranch.

The proposed Agreement stipulates that nene nests will not be disturbed until after the birds have hatched their eggs and left the nest with their young to the maximum extent practicable and that nene will not be fed outside the release pen in order to maintain their wildness.

We anticipate that this proposed Agreement will result in the following benefits to nene: (1) Establish a new, self-sustaining population of nene on Maui in a mid-elevation site; (2) reduce the risk of catastrophic loss of nene due to their increased range in the wild; (3) increase the number of nene in the wild (it is anticipated that a population of 75 nene could become established within the term of the Agreement on Piiholo Ranch); (4) increase our understanding of the effectiveness of management techniques for nene; and (5) provide an additional source of nene for future management activities. Nene were likely extirpated from the island of Maui by around 1900 and there have been no known sightings of nene on Piiholo Ranch, therefore, the baseline for this proposed Agreement is zero.

Consistent with the Safe Harbor policy (64 FR 32717), Piiholo Ranch has applied to the Service for issuance of an enhancement of survival permit under section 10(a)(1)(A) of the ESA to authorize incidental take of nene introduced to the enrolled lands, and their progeny, as a result of lawful activities at Piiholo Ranch. These activities include unintentional take of nene from: (1) Cattle ranching; (2) tourism; (3) cultivation of agricultural crops; and (4) harvesting and processing non-native trees. We expect that the maximum level of incidental take authorized under the proposed Agreement will never be realized. Piiholo Ranch has no plans to change land uses. The Agreement provides that any nene taken when the Agreement expires will not be injured or harmed, but will be relocated, with permission from the landowners, to other suitable lands. We fully expect that the release of nene on Piiholo Ranch will result in the establishment of a self-sustaining population of nene. Therefore, the cumulative impact of the proposed Agreement and the activities it covers, which are facilitated by the allowable incidental take, will provide a net conservation benefit to the nene.

We will evaluate the permit application, the proposed Agreement, and comments submitted thereon to determine whether the application meets the requirements of section 10(a) of the ESA and NEPA regulations. If the requirements are met, the Service will sign the proposed Agreement and issue an enhancement of survival permit under section 10(a)(1)(A) of the ESA to the Applicant for take of the nene incidental to otherwise lawful activities of the project. The Service will not make a final decision without full consideration of all comments received during the comment period.

Dated: May 3, 2004.
David J. Wesley,
Deputy Regional Director, Region 1, U.S. Fish and Wildlife Service, Portland, Oregon.

[FR Doc. 04-10425 Filed 5-6-04; 8:45 am]

BILLING CODE 4310-55-P